DEPARTMENT OF ENERGY

Federal Energy Regulatory Commission

[Docket No. EC00-123-000, et al.]

Allegheny Energy Unit 1 and Unit 2, L.L.C., et al.; Electric Rate and Corporate Regulation Filings

September 22, 2000.

Take notice that the following filings have been made with the Commission:

1. Allegheny Energy Unit 1 and Unit 2, L.L.C. and Allegheny Energy Supply Company, LLC

[Docket No. EC00-123-000]

Take notice that on September 14, 2000, Allegheny Energy Unit 1 and Unit 2, L.L.C. (Unit 1 and Unit 2) and Allegheny Energy Supply Company, LLC (AE Supply), have filed a supplement to the Joint Application Under Section 203 of the Federal Power Act for The Disposition Of Jurisdictional Facilities requesting Commission approval of the merger of Unit 1 and Unit 2 into AE Supply.

Comment date: October 5, 2000, in accordance with Standard Paragraph E at the end of this notice.

2. Sithe Energies, Inc., Sithe Mystic LLC, Sithe Boston Generating, LLC, Sithe New England Holdings, LLC, Sithe Northeast Generating Company, Inc., Sithe Northeast Holdings, Inc.

[Docket No. EC00-140-000]

Take notice that on September 20, 2000, Sithe Energies, Inc. Sithe Mystic LLC (Sithe Mystic), Sithe Boston Generating, LLC (Sithe Boston), Sithe New England Holdings, LLC, Sithe Northeast Generating Company, Inc. and Sithe Northeast Holdings, Inc. (collectively, Applicants) submitted for filing, pursuant to Section 203 of the Federal Power Act, and Part 33 of the Commission's Regulations, an application seeking authorization from the Commission for an internal corporate reorganization that involves the transfer of indirect control over certain jurisdictional facilities owned and operated by Sithe Mystic. These facilities include generator leads, step-up transformers, a market-based rate schedule and wholesale power agreements. As a result of the proposed reorganization, Sithe Mystic will have a new upstream parent, Sithe Boston.

Comment date: October 11, 2000, in accordance with Standard Paragraph E at the end of this notice.

3. United States Department of Energy—Western Area Power Administration

[Docket No. EF00-5092-000]

Take notice that on September 19, 2000, the Deputy Secretary of the Department of Energy, by Rate Order No. WAPA-94, did confirm and approve on an interim basis, to be effective October 1, 2000, the Western Area Power Administration's (Western) Rate Schedule BCP-F6 and the FY 2001 Base Charge and Rates for the Boulder Canyon Project.

Rate Schedule BCP-F6 for electric service and FY 2001 Base Charge and Rates will be in effect pending the Federal Energy Regulatory Commission's (Commission) approval of them or of a substitute rate setting formula on a final basis, ending September 30, 2005. The FY 2001 Base Charge and Rates will be in effect on a final basis, ending September 30, 2001.

Comment date: October 10, 2000, in accordance with Standard Paragraph E at the end of this notice.

4. Casco Bay Energy Company, LLC

[Docket No. EG00-256-000]

Take notice that on September 19, 2000, Casco Bay Energy Company, LLC (Casco Bay) filed with the Federal Energy Regulatory Commission (Commission) an application for a new determination of exempt wholesale generator status pursuant to Part 365 of the Commission's regulations.

Casco Bay is a Delaware limited liability company and an indirect wholly-owned subsidiary of Duke Energy Corporation. Casco Bay's facilities include two natural gas-fired generating units with a combined generating capacity of 520 MW.

Casco Bay further states that copies of the application were served upon the Securities and Exchange Commission, the South Carolina Public Service Commission, the North Carolina Utilities Commission, and the Maine Public Utilities Commission.

Comment date: October 13, 2000, in accordance with Standard Paragraph E at the end of this notice. The Commission will limit its consideration of comments to those that concern the adequacy or accuracy of the application.

5. Western Resources, Inc.

[Docket No. ER00-3445-002]

Take notice that on September 19, 2000, Western Resources, Inc. (WR) submitted for filing an amendment to its previous filings in this proceeding. The amendment includes an Order No. 614 compliant version of the Electric Power Supply Agreement (Agreement) between WR and the City of Toronto, Kansas. WR states that this agreement extends the term of this agreement until March 14, 2010.

A copy of this filing was served upon the City of Toronto, Kansas.

Comment date: October 10, 2000, in accordance with Standard Paragraph E at the end of this notice.

6. Black Hills Power and Light Company

[Docket No. ER00-3706-000]

Take notice that on September 19, 2000 Black Hills Corporation, which operates its electric utility business under the assumed name of Black Hills Power and Light Company (Black Hills) tendered for filing with the Federal Energy Regulatory Commission a letter approving its membership in the Western Systems Power Pool (WSPP).

Black Hills requests that the Commission allow its membership in the WSPP to become effective on September 19, 2000.

Black Hills states that a copy of this filing has been served upon the regulatory commission of each of the states of South Dakota, Wyoming and Montana, the WSPP Executive Committee, General Counsel to the WSPP and on the members of the WSPP.

Comment date: October 10, 2000, in accordance with Standard Paragraph E at the end of this notice.

7. Madison Gas and Electric Company

[Docket No. ER00-3707-000]

Take notice that on September 19, 2000, Madison Gas and Electric Company (MGE) tendered for filing a service agreement under MGE's Market-Based Power Sales Tariff (FERC Electric Tariff Original Volume No. 4) with Kansas City Power and Light Company.

Comment date: October 10, 2000, in accordance with Standard Paragraph E at the end of this notice.

8. Idaho Power Company

[Docket No. ER00-3708-000]

Take notice that on September 19, 2000, Idaho Power Company (IPC) tendered for filing the Federal Energy Regulatory Commission, a Service Agreement under Idaho Power Company FERC Electric Tariff Original Volume No. 6, Market Rate Power Sales Tariff, between Idaho Power Company and Clatskanie People's Utility District.

Comment date: October 10, 2000, in accordance with Standard Paragraph E at the end of this notice.

9. Duke Energy Corporation

[Docket No. ER00-3709-000]

Take notice that on September 19, 2000, Duke Energy Corporation (Duke) tendered for filing a Service Agreement with Duke Power, a division of Duke Energy Corporation, for Firm Point-to-Point Transmission Service under Duke's Open access Transmission Tariff.

Duke requests that the proposed Service Agreement become effective on August 31, 2000.

Duke states that this filing has been served on the North Carolina Utilities Commission.

Comment date: October 10, 2000, in accordance with Standard Paragraph E at the end of this notice.

10. Consumers Energy Company

[Docket No. ER00-3712-000]

Take notice that on September 19, 2000, Consumers Energy Company (Consumers) tendered for filing an executed Service Agreement for Firm and Non-firm Point-to-Point Transmission Service with DTE Energy Marketing, Inc. (Customer) pursuant to the Joint Open Access Transmission Service Tariff filed on December 31, 1996 by Consumers and The Detroit Edison Company (Detroit Edison). Customer is taking service under the Service Agreement in connection with Consumers' Electric Customer Choice program.

Consumers is requesting an effective date of August 31, 2000.

Copies of the filed agreement were served upon the Michigan Public Service Commission, Detroit Edison, and the Customer.

Comment date: October 10, 2000, in accordance with Standard Paragraph E at the end of this notice.

11. Carolina Power & Light Company

[Docket No. ER00-3716-000]

Take notice that on September 19, 2000, Carolina Power & Light Company (CP&L) tendered for filing an executed Power Purchase Agreement with North Carolina Electric Membership Corporation under the provisions of CP&L's Market-Based Rates Tariff, FERC Electric Tariff No. 4.

CP&L is requesting an effective date of January 1, 2001 for this Agreement.

Copies of the filing were served upon the North Carolina Utilities Commission and the South Carolina Public Service Commission.

Comment date: October 10, 2000, in accordance with Standard Paragraph E at the end of this notice.

12. Mirabito Gas & Electric, Inc.

[Docket No. ER00-3717-000]

Take notice that on September 19, 2000, Mirabito Gas & Electric, Inc. (Mirabito) petitioned the Commission for acceptance of Mirabito Gas & Electric, Inc. Rate Schedule FERC No. 1, the granting of certain blanket approvals, including the authority to sell electricity at market-based rates; and the waiver of certain Commission regulations.

Mirabito intends to engage in wholesale electric power and energy purchases and sales as a marketer. Mirabito is not in the business of generating or transmitting electric power.

Comment date: October 10, 2000, in accordance with Standard Paragraph E at the end of this notice.

13. Northern States Power Company

[Docket No. ER00-3720-000]

Take notice that on September 18, 2000, Northern States Power Company tendered for filing with the Federal Energy Regulatory Commission a Notice of Succession In Ownership Or Operation.

Comment date: October 10, 2000, in accordance with Standard Paragraph E at the end of this notice.

14. Consumers Energy Company

[Docket No. ER00-3723-000]

Take notice that on September 19, 2000, Consumers Energy Company (Consumers) tendered for filing executed Firm and Non-Firm Point-to-Point Transmission Service Agreements with Rainbow Energy Marketing Corporation (Customer) pursuant to the Joint Open Access Transmission Service Tariff filed on December 31, 1996 by Consumers and The Detroit Edison Company (Detroit Edison).

The agreements have effective dates of September 5, 2000.

Copies of the filed agreement were served upon the Michigan Public Service Commission, Detroit Edison, and the Customer.

Comment date: October 10, 2000, in accordance with Standard Paragraph E at the end of this notice.

15. Cinergy Services, Inc.

[Docket No. ER00-3733-000]

Take notice that on September 18, 2000, Cinergy Services, Inc. (Cinergy) and Illinova Energy Partners, Inc. filed with the Federal Energy Regulatory Commission (FERC) a request for cancellation of Service Agreement No. 122, under Cinergy Operating Companies, Cost-Based Power Sales Tariff—CB, FERC Electric Tariff Original Volume No. 6.

Cinergy requests an effective date of May 31, 2000.

Comment date: October 10, 2000, in accordance with Standard Paragraph E at the end of this notice.

16. Upper Peninsula Power Company

[Docket No. ES00-53-000]

Take notice that on September 18, 2000, Upper Peninsula Power Company submitted an application pursuant to section 204 of the Federal Power Act seeking authorization to issue short-term unsecured promissory notes in an amount not to exceed $20 million.

Comment date: October 6, 2000, in accordance with Standard Paragraph E at the end of this notice.

17. Cinergy Solutions Partners, LLC

[Docket No. QF00-95-000]

Take notice that on September 18, 2000, Cinergy Solutions Partners, LLC (CSP) filed with the Federal Energy Regulatory Commission (Commission) an application for certification of a facility as a qualifying cogeneration facility pursuant to Section 292.207(b) of the Commission's regulations. No determination has been made that the submittal constitutes a complete filing.

The facility will be a topping cycle cogeneration facility, primarily fired by natural gas (the Facility). The thermal energy is used by an industrial food processing facility. The Facility will be owned by Initial ProjectCo, and indirectly owned by CSP. The interests in CSP pertaining to the Facility are owned by Cinergy Solutions, Inc., and IPP Ventures, LLC.

Comment date: October 18, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-24927 Filed 9-27-00; 8:45 am]

BILLING CODE 6717-01-P